DEPARTMENT OF THE INTERIOR

Bureau of Land Management

[NM-923-1430-ET; NMNM 54961]

Notice of Proposed Withdrawal and Opportunity for Public Meeting; Oklahoma

AGENCY: Bureau of Land Management, Interior.

ACTION: Notice.

SUMMARY: The U.S. Army Corps of Engineers has filed an application requesting the Secretary of the Interior to withdraw 79.60 acres of public land from surface entry and transfer jurisdiction of the land from the Bureau of Land Management to the U.S. Army Corps of Engineers for 20 years to protect the Eufaula Lake Project. The land, previously withdrawn by Public Land Order (PLO) No. 6622, which expired August 5, 2006, is not subject to the United States mining laws and has been and will remain open to mineral leasing.

DATES: Comments and requests for a public meeting must be received by May 29, 2007.

ADDRESSES: Comments and meeting requests should be sent to the U.S. Army Corps of Engineers, Tulsa District, Attn: Real Estate Division, 1645 South 101st East Avenue, Tulsa, OK 74128-4609.

FOR FURTHER INFORMATION CONTACT: Bob Hinds at the address above or (918) 669-7257 or Ron Dunton, BLM New Mexico State Office, 1474 Rodeo Road, Santa Fe, New Mexico 87502 at (505) 438-7400.

SUPPLEMENTARY INFORMATION: The U.S. Army Corps of Engineers has filed an application with the Bureau of Land Management, pursuant to Section 204 of the Federal Land Policy and Management Act of 1976, 43 U.S.C. 1714, to withdraw the land described below from settlement, sale, location or entry under the general land laws and transfer jurisdiction of the land to the U.S. Corps of Engineers. The land is not subject to the United States mining laws and has been and will remain open to mineral leasing. The proposed withdrawal would replace the withdrawal created by PLO No. 6622 (51 FR 28229) which expired August 5, 2006. The public land proposed for continued withdrawal is described as follows:

Indian Meridian

T. 5 N., R. 16 E.,

Sec. 2, lot 3 and SE¼NW¼.

The area described contains 79.60 acres in Pittsburg County.

The purpose of the proposed withdrawal is to continue protection of the Federal investment in the Eufaula Lake Project.

The withdrawal would not alter the applicability of those public land laws governing the use of the land under lease, license, or permit or governing the disposal of the mineral or vegetative resources.

The use of a right-of-way or interagency or cooperative agreement would not adequately constrain nondiscretionary uses and therefore would not provide adequate protection of the Federal investment in the Eufaula Lake Project.

There are no suitable alternative sites available since the Eufaula Lake Project is already located on the above-described public land.

No additional water rights would be necessary to fulfill the purpose of the requested withdrawal.

Records relating to the proposed withdrawal may be examined by interested parties by contacting Bob Hinds at the address above or (918) 669-7257.

For a period of 90 days from the date of publication of this notice, all persons who wish to submit comments, suggestions, or objections in connection with the proposed withdrawal may present their views in writing to the U.S. Army Corps of Engineers at the address noted above.

Comments, including names and street addresses of respondents, will be available for public review at the U.S. Army Corps of Engineers at the above address during regular business hours, 7:45 a.m. to 4:30 p.m., Monday through Friday, except holidays. Before including your address, phone number, e-mail address, or other personal identifying information in your comment, be advised that your entire comment—including your personal identifying information—may be made publicly available at any time. While you can ask us in your comment to withhold from public review your personal identifying information, we cannot guarantee that we will be able to do so. All submissions from organizations or businesses, and from individuals identifying themselves as representatives or officials of organizations or businesses, will be made available for public inspection in their entirety.

Notice is hereby given that an opportunity for a public meeting is afforded in connection with the proposed withdrawal. All interested persons who desire a public meeting for the purpose of being heard on the proposed withdrawal must submit a written request to the U.S. Army Corps of Engineers at the address above within 90 days from the date of publication of this notice. If the authorized officer determines that a public meeting will be held, a notice of the time and place will be published in the Federal Register at least 30 days before the scheduled date of the meeting. This withdrawal proposal will be processed in accordance with the applicable regulations set forth in 43 CFR 2310.4.

For a period of 2 years from the date of publication of this notice in the Federal Register, the land described above will remain segregated from surface entry. The segregrative effect of the publication of this notice shall terminate upon denial or cancellation of the subject application, approval of application or on February 27, 2009, whichever occurs first. Licenses, permits, cooperative agreements, or discretionary land use authorizations of a temporary nature which would not significantly impact the project may be allowed with the approval of the authorized officer of the BLM during the segregative period.

(Authority: 43 CFR 2310.3-1(b))

Ron Dunton,
Deputy State Director, Resources.

[FR Doc. E7-3366 Filed 2-26-07; 8:45 am]

BILLING CODE 3710-39-P